DEPARTMENT OF JUSTICE

Drug Enforcement Administration

Manufacturer of Controlled Substances; Notice of Application

Pursuant to § 1301.33(a) of Title 21 of the Code of Federal Regulations (CFR), this is notice that on February 14, 2003, Boehringer Ingelheim Chemicals, Inc., 2820 N. Normandy Drive, Petersburg, Virginia 23805, made application by renewal, and on November 27, 2002, made application by renewal, and on November 27, 2002, made application by letter to the Drug Enforcement Administration (DEA) for registration as a bulk manufacturer of the basic classes of controlled substances listed below:

Drug | Schedule
Amphetamine (1100) | II
Methadone (9250) | II
Methadone-intermediate (9254) | II
Methylphenidate (1724) | II
Levo-aphacetylmethadol (9648) | II
Fentanyl (9801) | II
Dextropropoxphene (9273) | II

The firm plans to manufacture the listed controlled substances for formulation into finished pharmaceuticals.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537; Attention: Drug Operations Section, Domestic Drug Unit (ODOD) and must be filed no later than June 9, 2003.

Dated: March 21, 2003.
Laura M. Nagel,
Deputy Assistant Administrator, Office of Diversion Control, Drug Enforcement Administration.

[FR Doc. 03-8583 Filed 4-8-03; 8:45 am]

BILLING CODE 4410-09-M